DEPARTMENT OF TRANSPORTATION

Federal Aviation Administration

14 CFR Part 71

[Docket No. FAA-2020-0004; Airspace Docket No. 19-AGL-16]

RIN 2120-AA66

Proposed Amendment, Establishment, and Revocation of Multiple Air Traffic Service (ATS) Routes in the Vicinity of Waukon, IA

AGENCY: Federal Aviation Administration (FAA), DOT.

ACTION: Notice of proposed rulemaking (NPRM).

SUMMARY: This action proposes to amend six VHF Omnidirectional Range (VOR) Federal airways, V-2, V-77, V-138, V-218, V-246 and V-398; establish two low altitude Area Navigation (RNAV) routes, T-348 and T-389; and remove one VOR Federal airway, V-411, in the vicinity of Waukon, IA. The Air Traffic Service (ATS) route modifications are necessary due to the planned decommissioning of the VOR portion of the Waukon, IA, VOR/Distance Measuring Equipment (VOR/DME) navigation aid (NAVAID). The NAVAIDs provide navigation guidance for portions of the affected air traffic service (ATS) routes. The VOR is being decommissioned as part of the FAA's VOR Minimum Operational Network (MON) program.

DATES: Comments must be received on or before March 9, 2020.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2020-0004; Airspace Docket No. 19-AGL-16 at the beginning of your comments. You may also submit comments through the internet at https://www.regulations.gov. FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0004; Airspace Docket No. 19-AGL-16) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0004; Airspace Docket No. 19-AGL-16.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The FAA is planning decommissioning activities for the VOR portion of the Waukon, IA, VOR/DME in July, 2020. The VOR portion of the Waukon, IA, VOR/DME is a candidate VOR identified for discontinuance by the FAA's VOR MON program and listed in the final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Waukon VOR/DME is planned for decommissioning, the co-located DME portion of the NAVAID is being retained.

The ATS route dependencies to the Waukon, IA, VOR/DME are VOR Federal airways V-2, V-77, V-138, V-218, V-246, V-398, and V-411.

With the planned decommissioning of the VOR portion of the Waukon, IA, VOR/DME, the remaining ground-based NAVAID coverage in the area is insufficient to enable the continuity of the affected VOR Federal airways. As such, proposed modifications to the affected VOR Federal airways would result in an increased gap in one of the airways (V-2), the removal of affected airway segments at the end of five of the airways (V-77, V-138, V-218, V-246, and V-398), and the removal of the remaining affected airway (V-411). To overcome the airway gaps, instrument flight rules (IFR) traffic could use adjacent ATS routes, including V-13, V-24, V-82, V-100, V-120, V-129, V-158, V-170, V-228, V-503, and V-510, to circumnavigate the affected area. IFR traffic could also file point to point through the affected area using the existing airway fixes that will remain in place, as well as adjacent NAVAIDs, or receive air traffic control (ATC) radar vectors through the area. Visual flight rules pilots who elect to navigate via the airways through the affected area could also take advantage of the adjacent VOR Federal airways or ATC services listed previously.

Further, the FAA proposes to establish two RNAV routes, T-348 and T-389, through the affected area and beyond to continue supporting airspace users with an enroute ATS route structure, as well as ongoing FAA NextGen efforts to transition the national airspace system to performance-based navigation.

Lastly, the V-138 description contains two “1,200 feet AGL” references that establish controlled airspace (Class E) that extend upward from 1,200 feet above ground level (AGL) for the airway segments between the Grand Island, NE, VOR/DME and the Lincoln, NE, VOR/Tactical Air Navigation (VORTAC) NAVAIDs. By regulation, when such areas [Class E controlled airspace] are designated in conjunction with airways or routes, the extent of such designation has the lateral extent identical to that of the airway or route and extends upward from 1,200 feet above the surface, unless otherwise specified. As such, the two 1,200 feet AGL references listed in the description are unnecessary.

The Proposal

The FAA is proposing an amendment to Title 14 Code of Federal Regulations (14 CFR) part 71 by modifying VOR Federal airways V-2, V-77, V-138, V-218, V-246, and V-398; establishing low altitude RNAV routes T-348 and T-389; and removing VOR Federal airway V-411. The planned decommissioning of the VOR portion of the Waukon, IA, VOR/DME has made this action necessary.

The proposed VOR Federal airway changes are outlined below.

V-2: V-2 currently extends between the Seattle, WA, VORTAC and the intersection of the Nodine, MN, VORTAC 122° and Waukon, IA, VOR/DME 053° radials (WEBYE fix); and between the Buffalo, NY, VOR/DME and the Gardner, MA, VOR/DME. The FAA proposes to remove the airway segment between the Nodine, MN, VORTAC and the intersection of the Nodine, MN, VORTAC 122° and Waukon, IA, VOR/DME 053° radials (WEBYE fix). The unaffected portions of the existing airway would remain as charted.

V-77: V-77 currently extends between the San Angelo, TX, VORTAC and the Waukon, IA, VOR/DME. The FAA proposes to remove the airway segment between the Waterloo, IA, VOR/DME and the Waukon, IA, VOR/DME. The unaffected portions of the existing airway would remain as charted.

V-138: V-138 currently extends between the Riverton, WY, VOR/DME and the Sidney, NE, VOR/DME; and between the Grand Island, NE, VOR/DME and the Waukon, IA, VOR/DME. The FAA proposes to remove the airway segment between the Mason City, IA, VOR/DME and the Waukon, IA, VOR/DME. Additionally, the FAA proposes to remove the two “1,200 feet AGL” references listed between the Grand Island, NE, VOR/DME and the Lincoln, NE, VORTAC. The unaffected portions of the existing airway would remain as charted.

V-218: V-218 currently extends between the International Falls, MN, VOR/DME and the Waukon, IA, VOR/DME. The FAA proposes to remove the airway segment between the Gopher, MN, VORTAC and the Waukon, IA, VOR/DME. The unaffected portions of the existing airway would remain as charted.

V-246: V-246 currently extends between the Janesville, WI, VOR/DME and the intersection of the Nodine, MN, VORTAC 055° and Eau Claire, WI, VORTAC 134° radials (MILTO fix). The FAA proposes to remove the airway segment between the Dubuque, IA, VOR/DME and the intersection of the Nodine, MN, VORTAC 055° and Eau Claire, WI, VORTAC 134° radials (MILTO fix). The unaffected portions of the existing airway would remain as charted.

V-398: V-398 currently extends between the Aberdeen, SD, VOR/DME and the Lone Rock, WI, VOR/DME. The FAA proposes to remove the airway segment between the Rochester, MN, VOR/DME and the Lone Rock, WI, VOR/DME. The unaffected portions of the existing airway would remain as charted.

V-411: V-411 currently extends between the Lone Rock, WI, VOR/DME and the Farmington, MN, VORTAC. The FAA proposes to remove the airway in its entirety. The airway segment between the Lone Rock, WI, VOR/DME and the Rochester, MN, VOR/DME would be removed due to the Waukon VOR/DME being decommissioned. The airway segment between the Rochester, MN, VOR/DME and the Farmington, MN, VORTAC would be removed as there are two alternate routes (one, using V-82/V-161, that is 5 nautical miles (NM) shorter and direct; and the second, using V-13 and V-24, that is slightly longer by 8 NM) that could be used to navigate between the Rochester VOR/DME and the Farmington VORTAC. Further, a portion of the V-411 airway segment between the Rochester VOR/DME and the Farmington VORTAC (DELZY fix to Farmington VORTAC) actually overlaps V-13.

The proposed new low altitude RNAV routes are outlined below.

T-348: T-348 is a proposed new route that would extend between the BRAIN, MN, waypoint (WP) and the Lungs, WI, WP. This T-route would mitigate the loss of the V-398 and V-411 airways proposed to be removed between the Rochester, MN, VOR/DME and the Lone Rock, WI, VOR/DME and provide RNAV routing capability from the Sioux Falls, SD, area eastward to just beyond the Madison, WI, area.

T-389: T-389 is a proposed new route that would extend between the Farmington, MO, VORTAC and the KOETZ, WI, WP being established. This T-route would mitigate the loss of the V-77 and V-246 airway segments proposed to be removed between the Waterloo, IA, VOR/DME and the Nodine, MN, VORTAC and provide RNAV routing capability from the Farmington, MO, area, northward to the Arcadia, WI, area.

All radials in the VOR Federal airway descriptions below are unchanged and stated in True degrees.

VOR Federal airways are published in paragraph 6010(a) and low altitude RNAV routes are published in paragraph 6011 of FAA Order 7400.11D dated August 8, 2019, and effective September 15, 2019, which is incorporated by reference in 14 CFR 71.1. The ATS routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-2 [Amended]

From Seattle, WA; Ellensburg, WA; Moses Lake, WA; Spokane, WA; Mullan Pass, ID; Missoula, MT; Helena, MT; INT Helena 119° and Livingston, MT, 322° radials; Livingston; Billings, MT; Miles City, MT; 24 miles, 90 miles 55 MSL, Dickinson, ND; 10 miles, 60 miles 38 MSL, Bismarck, ND; 14 miles, 62 miles 34 MSL, Jamestown, ND; Fargo, ND; Alexandria, MN; Gopher, MN; to Nodine, MN. From Buffalo, NY; Rochester, NY; Syracuse, NY; Utica, NY; Albany, NY; INT Albany 084° and Gardner, MA, 284° radials; to Gardner.

* * * * *

V-77 [Amended]

From San Angelo, TX; Abilene, TX; INT Abilene 047° and Wichita Falls, TX, 204° radials; Wichita Falls; INT Wichita Falls 028° and Will Rogers, OK, 216° radials; Will Rogers; INT Will Rogers 002° and Pioneer, OK, 201° radials; Pioneer; Wichita, KS; INT Wichita 042° and Topeka, KS, 236° radials; Topeka; St Joseph, MO; Lamoni, IA; Des Moines, IA; Newton, IA; to Waterloo, IA.

* * * * *

V-138 [Amended]

From Riverton, WY; 35 miles, 80 miles 107 MSL, 16 miles 85 MSL, Medicine Bow, WY; Cheyenne, WY; to Sidney, NE. From Grand Island, NE; INT of Grand Island 099° and Lincoln, NE, 267° radials; Lincoln; Omaha, IA; INT Omaha 032° and Fort Dodge, IA, 222° radials; Fort Dodge; to Mason City, IA.

* * * * *

V-218 [Amended]

From International Falls, MN; Grand Rapids, MN; to Gopher, MN.

* * * * *

V-246 [Amended]

From Janesville, WI; to Dubuque, IA.

* * * * *

V-398 [Amended]

From Aberdeen, SD, via INT Aberdeen 101° and Watertown, SD, 312° radials; Watertown; Redwood Falls, MN; to Rochester, MN.

* * * * *

V-411 [Removed]

* * * * *

6011 United States Area Navigation Routes.

* * * * *

T-348 BRAIN, MN to LUNGS, WI [New]
BRAIN, MN | WP | (Lat. 43°39′00.24″ N, long. 96°26′12.58″ W)
GRSIS, MN | WP | (Lat. 43°38′45.54″ N, long. 94°25′21.17″ W)
FOOLS, MN | WP | (Lat. 43°46′58.20″ N, long. 92°35′44.93″ W)
GABDE, MN | WP | (Lat. 43°38′50.04″ N, long. 92°18′26.46″ W)
KRRTR, IA | WP | (Lat. 43°16′18.12″ N, long. 91°22′30.62″ W)
Madison, WI (MSN) | VORTAC | (Lat. 43°08′41.41″ N, long. 89°20′22.91″ W)
LUNGS, WI | WP | (Lat. 43°02′43.66″ N, long. 88°56′54.86″ W)
* * * * * * *
T-389 Farmington, MO (FAM) to KOETZ, WI [New]
Farmington, MO (FAM) | VORTAC | (Lat. 37°40′24.46″ N, long. 90°14′02.61″ W)
Foristell, MO (FTZ) | VORTAC | (Lat. 38°41′39.60″ N, long. 90°58′16.57″ W)
RIVRS, IL | WP | (Lat. 39°25′21.41″ N, long. 90°55′56.70″ W)
KAYUU, MO | WP | (Lat. 40°19′05.81″ N, long. 91°41′36.59″ W)
MERKR, IA | WP | (Lat. 40°49′16.02″ N, long. 92°08′26.88″ W)
AGEN, IA | FIX | (Lat. 41°01′43.78″ N, long. 92°20′50.25″ W)
PICRA, IA | WP | (Lat. 41°35′00.72″ N, long. 92°32′34.29″ W)
HAVOS, IA | WP | (Lat. 42°04′16.32″ N, long. 92°28′29.38″ W)
Wterloo, IA (ALO) | VOR/DME | (Lat. 42°33′23.39″ N, long. 92°23′56.13″ W)
ZEZDU, IA | WP | (Lat. 42°49′29.02″ N, long. 92°04′58.05″ W)
FALAR, MN | WP | (Lat. 43°34′26.04″ N, long. 91°30′18.32″ W)
KOETZ, W | WP | (Lat. 44°13′15.00″ N, long. 91°28′14.00″ W)

Issued in Washington, DC, on January 15, 2020.
Scott M. Rosenbloom,
Acting Manager, Rules and Regulations Group.

[FR Doc. 2020-00997 Filed 1-23-20; 8:45 am]

BILLING CODE 4910-13-P